DEPARTMENT OF DEFENSE

Department of the Army

Armament Retooling and Manufacturing Support Initiative Implementation

AGENCY: Department of the Army, DoD.

ACTION: Notice of meeting.

SUMMARY: Reference notice of open meeting, Armament Retooling and Manufacturing Support Initiative Implementation, published in the Federal Register, January 23, 2002 (67 FR 3167). This notice supersedes the reference and provides information about the rescheduled meeting, as follows: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. The U.S. Army, Operations Support Command, will host this meeting. The purpose of the meeting is to update the EAC and public on the status of ongoing actions, new items of interest, and suggested future direction/actions. Topics for this meeting will include—Security Requirements and ARMS Contractors; Industrial Base Strategy and Industrial Commercialization; Policy on Ownership of Property; ARMS Revenue Projects; and Arsenal Support Program Initiative Update. This meeting is open to the public.

Date of Meeting: March 27-28, 2002.

Place of Meeting: Embassy Suites Hotel, 8978 International Drive, Orlando, FL 32819.

Time of Meeting: 8:30 a.m.—5:00 p.m. on March 27 and 7:30 a.m.—12:00 p.m. on March 28.

FOR FURTHER INFORMATION CONTACT: Mr. Mike Perez, U.S. Army Operations Support Command, ATTN: AMSOS-COM-E, Rock Island Arsenal, IL 61299, phone (309) 782-3360.

SUPPLEMENTARY INFORMATION: A block of rooms has been reserved at the Embassy Suites Hotel for the nights of 26-28 March 2002. The Embassy Suites Hotel is located at 8978 International Drive, Orlando, FL 32819, local Phone (407) 352-1400. Please make your reservations by calling 800-362-2779. Be sure to mention the guest code ARMS PPTF. Reserve your room prior to March 1st to get the Government Rate of $95.00 a night. Also notify this office of your attendance by notifying Mike Perez, perezm@osc.army.mil, 309-782-3360 (DSN 793-3360). To insure adequate arrangements (transportation, conference facilities, etc.) for all attendees, we request your attendance notification with this office by March 8, 2002. Corporate casual is meeting attire.

Luz D. Ortiz,
Army Federal Register Liaison Officer.

[FR Doc. 02-4178 Filed 2-20-02; 8:45 am]

BILLING CODE 3710-08-M